DEPARTMENT OF COMMERCE

International Trade Administration

[A-201-805]

Circular Welded Non-Alloy Steel Pipe and Tube From Mexico: Final Results of Antidumping Duty Administrative Review

AGENCY: Import Administration, International Trade Administration, Department of Commerce.

ACTION: Notice of Final Results of Antidumping Duty Administrative Review.

SUMMARY: On December 9, 1999, the Department of Commerce (the Department) published the preliminary results of its administrative review of the antidumping duty order on circular welded non-alloy steel pipe from Mexico covering exports of this merchandise to the United States by certain manufacturers (Circular Welded Non-Alloy Steel Pipe from Mexico; Preliminary Results of Administrative Review, 64 FR 68995 (December 9, 1999)). We invited interested parties to comment on the preliminary results. We received comments and rebuttals from petitioners and from respondent with respect to both Hylsa and TUNA. Based on our analysis of the comments received, we have made changes in the margin calculations. The final weighted-average dumping margins for TUNA and Hylsa are listed below in the section entitled Final Results of Reviews.

EFFECTIVE DATE: June 15, 2000.

FOR FURTHER INFORMATION CONTACT: John Drury (TUNA), Charles Rast (Hylsa), or Linda Ludwig, Enforcement Group III, Office 8, Import Administration, International Trade Administration, U.S. Department of Commerce, 14th Street and Constitution Avenue, NW., Room 7866, Washington, DC 20230; telephone (202) 482-0195, (202) 482-1324, or (202) 482-3833, respectively.

SUPPLEMENTARY INFORMATION:

Applicable Statute

Unless otherwise indicated, all citations to the Tariff Act of 1930, as amended (the Act) are references to the provisions effective January 1, 1995, the effective date of the amendments made to the Act by the Uruguay Round Agreements Act (URAA). In addition, unless otherwise indicated, all citations to the Department's regulations are references to the provisions codified at 19 CFR part 351 (April 1998).

Background

The Department published an antidumping duty order on circular welded non-alloy steel pipe and tube from Mexico on November 2, 1992 (57 FR 49453). The Department published a notice of “Opportunity to Request an Administrative Review” of the antidumping duty order for the 1997/98 review period on November 12, 1998 (63 FR 63287). Respondents TUNA and Hylsa requested that the Department conduct an administrative review of the antidumping duty order on circular welded non-alloy steel pipe and tube from Mexico. We initiated this review on December 23, 1998. 63 FR 71091 (December 17, 1998).

On December 9, 1999, the Department published the preliminary results in this case. See Circular Welded Non-Alloy Steel Pipe from Mexico: Preliminary Results of Antidumping Duty Administrative Review, 64 FR 68995 (December 9, 1999). Section 751(a)(3)(A) of the Act allows the Department to extend the deadline for the final determination to 180 days from the date of publication of the preliminary determination. On March 31, 2000, the Department published a notice of extension of the time limit for the final results in this case to June 6, 2000. See Circular Welded Non-Alloy Steel Pipe from Mexico: Extension of Time Limit for Final Results of Antidumping Duty Administrative Review, 65 FR 17256 (March 31, 2000).

The Department is conducting this review in accordance with section 751(a) of the Act.

Scope of Review

The products covered by these orders are circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low pressure conveyance of water, steam, natural gas, and other liquids and gases in plumbing and heating systems, air conditioning units, automatic sprinkler systems, and other related uses, and generally meet ASTM A-53 specifications. Standard pipe may also be used for light load-bearing applications, such as for fence tubing, and as structural pipe tubing used for framing and support members for reconstruction or load-bearing purposes in the construction, shipbuilding, trucking, farm equipment, and related industries. Unfinished conduit pipe is also included in these orders.

All carbon steel pipes and tubes within the physical description outlined above are included within the scope of these orders, except line pipe, oil country tubular goods, boiler tubing, mechanical tubing, pipe and tube hollows for redraws, finished scaffolding, and finished conduit. Standard pipe that is dual or triple certified/stenciled that enters the U.S. as line pipe of a kind used for oil or gas pipelines is also not included in these orders.

Imports of the products covered by these orders are currently classifiable under the following Harmonized Tariff Schedule (HTS) subheadings: 7306.30.10.00, 7306.30.50.25, 7306.30.50.32, 7306.30.50.40, 7306.30.50.55, 7306.30.50.85, and 7306.30.50.90.

Although the HTS subheadings are provided for convenience and customs purposes, our written description of the scope of these proceedings is dispositive.

Analysis of Comments Received

All issues raised in the case and rebuttal briefs by parties to this administrative review are addressed in the Issues and Decision Memorandum (Decision Memorandum) from Joseph A. Spetrini, Deputy Assistant Secretary, Import Administration, to Troy H. Cribb, Acting Assistant Secretary for Import Administration, dated June 6, 2000, which is hereby adopted by this notice. A list of the issues which parties have raised and to which we have responded, all of which are in the Decision Memorandum, is attached to this notice as an Appendix. Parties can find a complete discussion of all issues raised in this review and the corresponding recommendations in this public memorandum which is on file in the Central Records Unit, room B-099 of the main Department building. In addition, a complete version of the Decision Memorandum can be accessed directly on the Web at www.ita.doc.gov/import_admin/records/frn/. The paper copy and the electronic version of the Decision Memorandum are identical in content.

Changes Since the Preliminary Results

Based on our analysis of comments received, and of information submitted by respondents in response to requests by the Department for more information, we have made certain changes in the margin calculations. We have also corrected certain programming and clerical errors in our preliminary results, where applicable. Any alleged programming or clerical errors with which we do not agree are discussed in the relevant sections of the Decision Memorandum, accessible in B-099 and on the Web at www.ita.doc.gov/import_admin/records/frn/.

Final Results of Review

We determine that the following percentage weighted-average margins exist for the period November 1, 1997 through October 31, 1998:

Circular Welded Non-Alloy Steel Pipes and Tubes
Producer/Manufacturer/Exporter | Weighted-Average Margin (percent)
TUNA | 1.92
Hylsa | 10.38

The Department shall determine, and the Customs Service shall assess, antidumping duties on all appropriate entries. The Department will issue appraisement instructions directly to the Customs Service. Furthermore, the following deposit requirements will be effective upon publication of this notice of final results of review for all shipments of circular welded non-alloy steel pipe from Mexico entered, or withdrawn from warehouse, for consumption on or after the publication date, as provided for by section 751(a)(1) of the Act: (1) The cash deposit rate for the reviewed companies will be the rates for those firms as stated above; (2) for previously reviewed or investigated companies not listed above, the cash deposit rate will continue to be the company-specific rate published for the most recent period; (3) if the exporter is not a firm covered in this review, or the original less than fair value (LTFV) investigation, but the manufacturer is, the cash deposit rate will be the rate established for the most recent period for the manufacturer of the merchandise; and (4) if neither the exporter nor the manufacturer is a firm covered in this review, the cash deposit rate will be 32.62 percent. This is the “all others” rate from the LTFV investigation. These deposit requirements, when imposed, shall remain in effect until publication of the final results of the next administrative review.

This notice serves as a final reminder to importers of their responsibility under 19 CFR 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.306 of the Department's regulations. Timely written notification of return/destruction of APO materials or conversion to judicial protective order is hereby requested. Failure to comply with the regulations and the terms of an APO is a sanctionable violation.

This administrative review and this notice are in accordance with sections 751(a)(1) and 777(i)(1)of the Act.

Dated: June 6, 2000.
Troy H. Cribb,
Acting Assistant Secretary for Import Administration.

Appendix I—-Issues in Decision Memorandum

Comments and Responses

TUNA

1. Cost of Production—Tolling Fees

2. Cost of Production—Major Input

3. Cost of Production—U.S. vs. Home Market costs

4. Export Price and Constructed Export Price Sales

5. Constructed Export Price Offset

Hylsa

1. Date of Sale

2. Sales to Employees

3. Export Price versus Constructed Export Price Sales

4. Inland Freight-Plant to Warehouse

5. Advertising Expenses

6. Inland Freight-Plant to Customer

7. Late Payment Interest

8. Warranty Expenses

9. Delivery Terms

10. U.S. Freight and Brokerage

11. Product Comparisons

[FR Doc. 00-15195 Filed 6-14-00; 8:45 am]

BILLING CODE 3510-DS-P